FEDERAL COMMUNICATIONS COMMISSION

47 CFR Part 73

[DA 03-631; MM Docket No. 01-181, RM-10201; MM Docket No. 01-190, RM-10210; MM Docket No. 01-217, RM-10236; MM Docket No. 01-220, RM-10239; MM Docket No. 01-226, RM-10254; MM Docket No. 01-228, RM-10256; MM Docket No. 01-233, RM-10261; MM Docket No. 01-282, RM-10293; MM Docket No. 01-283, RM-10294; MM Docket No. 01-284, RM-10295, MM Docket No. 01-285, RM-10296]

Radio Broadcasting Services; Alton, Missouri; Comanche, Texas; Dickens, Texas; Hamlin, Texas; Hollis, Oklahoma; Junction, Texas; McCamey, Texas; Mooreland, Oklahoma; Santa Anna, Texas; Taos, New Mexico; and Wapanucka, Oklahoma

AGENCY: Federal Communications Commission.

ACTION: Final rule.

SUMMARY: This document grants eleven proposals that allot new FM channels to Alton, Missouri; Comanche, Texas; Dickens, Texas; Hamlin, Texas; Hollis, Oklahoma; Junction, Texas; McCamey, Texas; Mooreland, Oklahoma; Santa Anna, Texas; Taos, New Mexico; and Wapanucka, Oklahoma. The Audio Division, at the request of Katherine Pyeatt, allots Channel 298A at Wapanucka, Oklahoma, as the community's first local FM service. See 66 FR 44586, August 24, 2001. Channel 298A can be allotted to Wapanucka, Oklahoma, in compliance with the Commission's minimum distance separation requirements with a site restriction of 2.9 km (1.8 miles) west of Wapanucka. The coordinates for Channel 298A at Wapanucka, Oklahoma, are 34-21-54 North Latitude and 96-23-47 West Longitude. A filing window for Channel 298A at Wapanucka, Oklahoma, will not be opened at this time. Instead, the issue of opening this allotment for auction will be addressed by the Commission in a subsequent Order. See Supplementary Information infra.

DATES: Effective May 26, 2003.

FOR FURTHER INFORMATION CONTACT: Deborah Dupont, Media Bureau, (202) 418-2180.

SUPPLEMENTARY INFORMATION: This is a synopsis of the Commission's Report and Order, MM Docket Nos. 01-181, 01-190, 01-217, 01-220, 01-226, 01-228, 01-233, 01-282, 01-283, 01-284, and 01-285, adopted March 12, 2003, and released March 14, 2003. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com.

The Audio Division further allots, at the request of Jeraldine Anderson, Channel 280A at Comanche, Texas, as the community's second local FM service. See 66 FR 44588, August 24, 2001. Channel 280A can be allotted to Comanche, Texas, in compliance with the Commission's minimum distance separation requirements without site restriction at center city coordinates. The coordinates for Channel 280A at Comanche, Texas, are 31-53-50 North Latitude and 98-36-12 West Longitude. A filing window for Channel 280A at Comanche, Texas, will not be opened at this time. Instead, the issue of opening this allotment for auction will be addressed by the Commission in a subsequent Order.

The Audio Division further allots, at the request of Jeraldine Anderson, Channel 274C2 at Hollis, Oklahoma, as the community's second local FM service. See 66 FR 47432, September 12, 2001. Channel 274C2 can be allotted to Hollis, Oklahoma, in compliance with the Commission's minimum distance separation requirements with a site restriction of 15.7 km (9.7 miles) south of Hollis. The coordinates for Channel 274C2 at Hollis, Oklahoma, are 34-32-55 North Latitude and 99-56-12 West Longitude. A filing window for Channel 274C2 at Hollis, Oklahoma, will not be opened at this time. Instead, the issue of opening this allotment for auction will be addressed by the Commission in a subsequent Order.

The Audio Division further allots, at the request of Jeraldine Anderson, Channel 282A at Santa Anna, Texas, as the community's second local FM service. See 66 FR 47432, September 12, 2001. Channel 282A can be allotted to Santa Anna, Texas, in compliance with the Commission's minimum distance separation requirements with a site restriction of 4.3 km (2.7 miles) south of Santa Anna. The coordinates for Channel 282A at Santa Anna, Texas, are 31-42-15 North Latitude and 99-20-23 West Longitude. Because the reference coordinates are within 320 kilometers (199 miles) of the U.S.-Mexico border, this change to the FM Table of Allotments is contingent upon concurrence of the Mexican Government in the allotment. A filing window for Channel 282A at Santa Anna, Texas, will not be opened at this time. Instead, the issue of opening this allotment for auction will be addressed by the Commission in a subsequent Order.

The Audio Division further allots, at the request of Katherine Pyeatt, Channel 300C2 at Mooreland, Oklahoma, as the community's second local FM service. See 66 FR 48108, September 18, 2001. Channel 300C2 can be allotted to Mooreland, Oklahoma, in compliance with the Commission's minimum distance separation requirements with a site restriction of 4.4 km (2.8 miles) northwest of Mooreland. The coordinates for Channel 300C2 at Mooreland, Oklahoma, are 36-27-59 North Latitude and 99-14-27 West Longitude. A filing window for Channel 300C2 at Mooreland, Oklahoma, will not be opened at this time. Instead, the issue of opening this allotment for auction will be addressed by the Commission in a subsequent Order.

The Audio Division further allots, at the request of Jeraldine Anderson, Channel 284A at Junction, Texas, as the community's fourth local FM service. See 66 FR 48108, September 18, 2001. Channel 284A can be allotted to Junction, Texas, in compliance with the Commission's minimum distance separation requirements with a site restriction of 2.1 km (1.3 miles) southeast of Junction. The coordinates for Channel 284A at Junction, Texas, are 30-28-19 North Latitude and 99-45-47 West Longitude. A filing window for Channel 284A at Junction, Texas, will not be opened at this time. Instead, the issue of opening this allotment for auction will be addressed by the Commission in a subsequent Order.

The Audio Division further allots, at the request of Charles Crawford, Channel 290A at Alton, Missouri, as the community's first local FM service. See 66 FR 48108, September 18, 2001. Channel 290A can be allotted to Alton, Missouri, in compliance with the Commission's minimum distance separation requirements with a site restriction of 5.6 km (3.5 miles) north of Alton. The coordinates for Channel 290A at Alton, Missouri, are 36-44-39 North Latitude and 91-24-28 West Longitude. A filing window for Channel 290A at Alton, Missouri, will not be opened at this time. Instead, the issue of opening this allotment for auction will be addressed by the Commission in a subsequent Order.

The Audio Division further allots, at the request of Linda Crawford, Channel 228A at Taos, New Mexico, as the community's fifth local FM service. See 66 FR 52735, October 17, 2001. Channel 228A can be allotted to Taos, New Mexico, in compliance with the Commission's minimum distance separation requirements with a site restriction of 11.5 km (7.1 miles) northeast of Taos. The coordinates for Channel 228A at Taos, New Mexico, are 36-28-20 North Latitude and 105-28-22 West Longitude. A filing window for Channel 228A at Taos, New Mexico, will not be opened at this time. Instead, the issue of opening this allotment for auction will be addressed by the Commission in a subsequent Order.

The Audio Division further allots, at the request of Linda Crawford, Channel 233C3 at McCamey, Texas, as the community's second local FM service. See 66 FR 52735, October 17, 2001. Channel 233C3 can be allotted to Taos, New Mexico, in compliance with the Commission's minimum distance separation requirements with a site restriction of 19.9 km (12.4 miles) east of McCamey. The coordinates for Channel 233C3 at McCamey, Texas, are 31-11-56 North Latitude and 102-01-42 West Longitude. The Mexican government has concurred in this allotment. A filing window for Channel 233C3 at McCamey, Texas, will not be opened at this time. Instead, the issue of opening this allotment for auction will be addressed by the Commission in a subsequent Order.

The Audio Division further allots, at the request of Linda Crawford, Channel 240A at Dickens, Texas, as the community's second local FM service. See 66 FR 52735, October 17, 2001 Channel 240A can be allotted to Dickens, Texas, in compliance with the Commission's minimum distance separation requirements without site restriction at center city coordinates. The coordinates for Channel 240A at Dickens, Texas, are 33-37-18 North Latitude and 100-50-10 West Longitude. A filing window for Channel 240A at Dickens, Texas, will not be opened at this time. Instead, the issue of opening this allotment for auction will be addressed by the Commission in a subsequent Order.

The Audio Division further allots, at the request of Linda Crawford, Channel 283C2 at Hamlin, Texas, as the community's second local FM service. See 66 FR 52735, October 17, 2001. Channel 283C2 can be allotted to Hamlin, Texas, in compliance with the Commission's minimum distance separation requirements with a site restriction of 8.7 km (5.4 miles) west of Hamlin. The coordinates for Channel 283C2 at Hamlin, Texas, are 32-51-53 North Latitude and 100-13-01 West Longitude. A filing window for Channel 283C2 at Hamlin, Texas, will not be opened at this time. Instead, the issue of opening this allotment for auction will be addressed by the Commission in a subsequent Order.

List of Subjects in 47 CFR part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Missouri, is amended by adding Alton, Channel 290A.

3. Section 73.202(b), the Table of FM Allotments under New Mexico, is amended by adding Channel 228A at Taos.

4. Section 73.202(b), the Table of FM Allotments under Oklahoma, is amended by adding Channel 274C2 at Hollis, Channel 300C2 at Mooreland, and Wapanucka, Channel 298A.

5. Section 73.202(b), the Table of FM Allotments under Texas, is amended by adding Channel 280A at Comanche, Channel 240A at Dickens, Channel 283C2 at Hamlin, Channel 284A at Junction, Channel 233C3 at McCamey, and Channel 282A at Santa Anna.

Federal Communications Commission.
John A. Karousos,
Assistant Chief, Audio Division, Media Bureau.

[FR Doc. 03-10326 Filed 4-25-03; 8:45 am]

BILLING CODE 6712-01-P